Title 3—

The President

Memorandum of November 26, 2018

Delegation of Authorities Under Section 1757 of the National Defense Authorization Act for Fiscal Year 2019

Memorandum for the Secretary of Commerce

By the authority vested in me as President by the Constitution and the laws of the United States of America, including section 301 of title 3, United States Code, I hereby delegate to the Secretary of Commerce the functions and authorities vested in the President by section 1757 of the National Defense Authorization Act for Fiscal Year 2019 (Public Law 115-232).

The delegation in this memorandum shall apply to any provision of any future public law that is the same or substantially the same as the provision referenced in this memorandum.

You are authorized and directed to publish this memorandum in the Federal Register.

THE WHITE HOUSE,

Washington, November 26, 2018

[FR Doc. 2018-26153

Filed 11-28-18; 11:15 am]

Billing code 3510-07-P